DEPARTMENT OF COMMERCE

International Trade Administration

[A-570-168, C-570-169]

Certain Alkyl Phosphate Esters From the People's Republic of China: Antidumping and Countervailing Duty Orders

AGENCY: Enforcement and Compliance, International Trade Administration, Department of Commerce.

SUMMARY: Based on affirmative final determinations by the U.S. Department of Commerce (Commerce) and the U.S. International Trade Commission (ITC), Commerce is issuing antidumping (AD) and countervailing duty (CVD) orders on certain alkyl phosphate esters (alkyl phosphate esters) from the People's Republic of China (China).

DATES: Applicable June 11, 2025.

FOR FURTHER INFORMATION CONTACT: Dennis McClure (AD) or Benjamin Nathan (CVD), AD/CVD Operations, Offices VIII and II, Enforcement and Compliance, International Trade Administration, U.S. Department of Commerce, 1401 Constitution Avenue NW, Washington, DC 20230; telephone: (202) 482-5973 and (202) 482-3834, respectively.

SUPPLEMENTARY INFORMATION:

Background

In accordance with sections 705(d), 735(d), and 777(i) of the Tariff Act of 1930, as amended (the Act), on April 25, 2025, Commerce published its affirmative final determination of sales at less-than-fair-value (LFTV) of alkyl phosphate esters from China and its affirmative final determination that countervailable subsidies are being provided to producers and exporters of alkyl phosphate esters from China.¹

¹ See Certain Alkyl Phosphate Esters from the People's Republic of China: Final Affirmative Countervailing Duty Determination, 90 FR 17373 (April 25, 2025); see also Certain Alkyl Phosphate Esters from the People's Republic of China: Final Affirmative Determination of Sales at Less Than Fair Value, 90 FR 17404 (April 25, 2025).

On June 2, 2025, the ITC notified Commerce of its final affirmative determinations that an industry in the United States is materially injured within the meanings of sections 705(b)(1)(A)(i) and 735(b)(1)(A)(i) of the Act, by reason of subsidized imports of alkyl phosphate esters from China and by reason of imports of alkyl phosphate esters that are sold in the United States at less than fair value.²

² See ITC's Letter, “Chair Determinations Letter to {Commerce}—Alkyl Phosphate Esters,” dated June 2, 2025 (ITC Notification Letter).

Scope of the Orders

The products covered by these orders are alkyl phosphate esters from China. For a complete description of the scope of the orders, see the appendix to this notice.

Antidumping Duty Order

On June 2, 2025, in accordance with section 735(d) of the Act, the ITC notified Commerce of its final determination that an industry in the United States is materially injured within the meaning of section 735(b)(1)(A)(i) of the Act by reason of imports of alkyl phosphate esters that are sold in the United States for less than fair value. Therefore, in accordance with sections 735(c)(2) and 736 of the Act, Commerce is issuing this AD order. Because the ITC determined that imports of alkyl phosphate esters from China are materially injuring a U.S. industry, unliquidated entries of such merchandise from China, entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise for all relevant entries of alkyl phosphate esters from China. Antidumping duties will be assessed on unliquidated entries of alkyl phosphate esters from China entered, or withdrawn from warehouse, for consumption on or after December 4, 2024, the date of publication of the LTFV Preliminary Determination,³ but will not include entries occurring after the expiration of the provisional measures period and before publication of the ITC's final injury determination, as further described in the “Provisional Measures—AD” section of this notice.

³ See Certain Alkyl Phosphate Esters from the People's Republic of China: Preliminary Affirmative Determination of Sales at Less Than Fair Value, Postponement of Final Determination and Extension of Provisional Measures, 89 FR 96223 (December 4, 2024) (LTFV Preliminary Determination), and accompanying Preliminary Decision Memorandum.

Suspension of Liquidation and Cash Deposits—AD

In accordance with section 736 of the Act, Commerce intends to instruct CBP to reinstitute the suspension of liquidation of alkyl phosphate esters from China effective the date of publication of the ITC's final affirmative injury determinations in the Federal Register. These instructions suspending liquidation will remain in effect until further notice. Commerce also intends to instruct CBP to require cash deposits equal to the estimated weighted-average dumping margins indicated in the table below. The rate for the China-wide entity applies to all producers and exporters not specifically listed below, as appropriate.

Estimated Weighted-Average Dumping Margins

The estimated weighted-average dumping margins are as follows:

Producer | Exporter | Weighted- average dumping margin percent) | Cash deposit rate (adjusted for subsidy offsets) (percent)
Anhui RunYue Technology Co., Ltd | Anhui RunYue Technology Co., Ltd | 254.60 | 167.46
Zhejiang Wansheng Co., Ltd. Co. Ltd | Zhejiang Wansheng Co., Ltd | 152.38 | 126.45
Xinji Hongzheng Chemical Co., Ltd | ACETO (SHANGHAI) LTD | 174.40 | 135.28
Anhui Shengli Pesticide & Chemistry Co., Ltd | Anhui Shengli Import and Export Co., Ltd | 174.40 | 135.28
Ningguo Long Day Chemical Co., Ltd | Anhui Shengli Import and Export Co., Ltd | 174.40 | 135.28
Fujian Wynca Technology Co., Ltd | Fujian Wynca Technology Co., Ltd | 174.40 | 135.28
Anhui RunYue Technology Co., Ltd | Fujian Wynca Technology Co., Ltd | 174.40 | 135.28
Shandong Yarong Chemical Co., Ltd | Fujian Wynca Technology Co., Ltd | 174.40 | 135.28
Shandong Yarong Chemical Co., Ltd | Shandong Yarong Chemical Co., Ltd | 174.40 | 135.28
Futong Chemical Co., Ltd | Shanghai Iroyal Chemical Co., Ltd | 174.40 | 135.28
Fujian Wynca Technology Co., Ltd | Shanghai Iroyal Chemical Co., Ltd | 174.40 | 135.28
Zhejiang Hong Hao Technology Co., Ltd | Shanghai Iroyal Chemical Co., Ltd | 174.40 | 135.28
Shandong Yarong Chemical Co., Ltd | Shanghai Iroyal Chemical Co., Ltd | 174.40 | 135.28
Xuancheng City Trooyawn Refined Chemical Industry Co., Ltd | Shanghai Iroyal Chemical Co., Ltd | 174.40 | 135.28
Hebei Zhenxing Chemical and Rubber Co., Ltd | Shanghai Yongxiangshun International Trade Co., Ltd | 174.40 | 135.28
Xuancheng City Trooyawn Refined Chemical Industry Co., Ltd | Xuancheng City Trooyawn Refined Chemical Industry Co., Ltd | 174.40 | 135.28
Jiangsu Yoke Technology Co., Ltd | Yoke Chemicals and New Materials (Shanghai) Co. Ltd | 174.40 | 135.28
Nantong Jiangshan Agrochemical & Chemicals Limited Liability Co., Ltd | Zhangjiagang Fortune Chemical Co., Ltd | 174.40 | 135.28
Shandong Yarong Chemical Co., Ltd | Zhangjiagnag Fortune Chemical Co., Ltd | 174.40 | 135.28
China-wide Entity |  | * 269.02 | 243.09
* Rate based on facts available with adverse inferences.

Provisional Measures—AD

Section 733(d) of the Act states that suspension of liquidation pursuant to an affirmative preliminary determination may not remain in effect for more than four months, except where exporters representing a significant proportion of exports of the subject merchandise request that Commerce extend the four-month period to no more than six months. Commerce published the LTFV Preliminary Determination on December 4, 2024.

The provisional measures period, beginning on the date of publication of the LTFV Preliminary Determination, ended on June 2, 2025. Therefore, in accordance with section 733(d) of the Act and our practice,⁴ Commerce will instruct CBP to terminate the suspension of liquidation and to liquidate, without regard to antidumping duties, unliquidated entries of alkyl phosphate esters from China entered, or withdrawn from warehouse, for consumption after June 2, 2025, the final day on which the provisional measures were in effect, until and through the day preceding the date of publication of the ITC's final affirmative injury determination in the Federal Register. Suspension of liquidation and the collection of cash deposits will resume on the date of publication of the ITC's final determination in the Federal Register.

⁴ See, e.g., Certain Corrosion-Resistant Steel Products from India, Italy, the People's Republic of China, the Republic of Korea and Taiwan: Amended Final Affirmative Antidumping Determination for India and Taiwan, and Antidumping Duty Orders, 81 FR 48390, 48392 (July 25, 2016).

Countervailing Duty Order

As stated above, on June 2, 2025, the ITC notified Commerce of its final determinations that an industry in the United States is materially injured within the meaning of section 705(b)(1)(A)(i) of the Act by reason of subsidized imports of alkyl phosphate esters from China.⁵ Therefore, in accordance with section 705(c)(2) of the Act, Commerce is issuing this countervailing duty order. Moreover, because the ITC determined that imports of alkyl phosphate esters from China are materially injuring a U.S. industry, unliquidated entries of such merchandise from China, entered or withdrawn from warehouse for consumption, are subject to the assessment of countervailing duties.

⁵ See ITC Notification Letter.

Therefore, in accordance with section 706(a) of the Act, Commerce intends to direct U.S. Customs and Border Protection (CBP) to assess, upon further instruction by Commerce, countervailing duties on unliquidated entries of alkyl phosphate esters from China entered, or withdrawn from warehouse, for consumption on or after October 1, 2024, the date of the publication of the CVD Preliminary Determination,⁶ but will not include entries occurring after the expiration of the provisional measures and before the publication in the Federal Register of the ITC's final injury determination under section 705(b) of the Act, as further described in the “Provisional Measures—CVD” section of this notice.

⁶ See Certain Alkyl Phosphate Esters from the People's Republic of China: Preliminary Affirmative Countervailing Duty Determination and Alignment of Final Determination with Final Antidumping Duty Determination, 89 FR 80870 (October 1, 2024) (CVD Preliminary Determination).

Suspension of Liquidation and Cash Deposits

In accordance with section 706 of the Act, we will instruct CBP to reinstitute suspension of liquidation on all relevant entries of alkyl phosphate esters from China, effective on the date of publication of the ITC's final affirmative injury determination in the Federal Register, and to assess, upon further instruction by Commerce, pursuant to section 706(a)(1) of the Act, countervailing duties for each entry of the subject merchandise in an amount based on the net countervailable subsidy rate for the subject merchandise. These instructions suspending liquidation will remain in effect until further notice.

Commerce will also instruct CBP to require cash deposits equal to the amounts as indicated below. Accordingly, effective on the date of publication of the ITC's final affirmative injury determination in the Federal Register, CBP will require, at the same time as importers would normally deposit estimated duties on the subject merchandise, a cash deposit for each entry of subject merchandise equal to the subsidy rates listed below.⁷ The all-others rate applies to all producers or exporters not specifically listed below, as appropriate.

⁷ See section 706(a)(3) of the Act.

Estimated Countervailable Subsidy Rates

The estimated countervailable subsidy rates are as follows:

Company | Subsidy rate (percent ad valorem)
Anhui RunYue Technology Co., Ltd.; Yixing RunYue Enterprise Management Co., Ltd.⁸ | 117.51
Zhejiang Wansheng Co., Ltd.⁹ | 81.82
Zhejiang Wanda Tools Group Corp | * 491.21
All Others | 91.07
* Rate is based on facts available with adverse inferences.

Provisional Measures—CVD

Section 703(d) of the Act states that the suspension of liquidation pursuant to an affirmative preliminary determination may not remain in effect for more than four months. Commerce published the CVD Preliminary Determination on October 1, 2024.¹⁰ As such, the four-month period beginning on the date of the publication of the Preliminary Determinations ended on February 1, 2025.

⁸ As discussed in the CVD Preliminary Determination, we found that Anhui RunYue is cross-owned with Yixing RunYue Enterprise Management Co., Ltd. For this final determination, Commerce continues to find that these companies are cross-owned.

⁹ As discussed in the CVD Preliminary Determination, we found that Zhejiang Wansheng is cross-owned with certain companies; because the identity of these two companies is business proprietary, the calculated subsidy rate applies only to Zhejiang Wansheng.

¹⁰ See CVD Preliminary Determination.

Therefore, in accordance with section 703(d) of the Act, we instructed CBP to terminate the suspension of liquidation and to liquidate, without regard to countervailing duties, unliquidated entries of alkyl phosphate esters from China entered, or withdrawn from warehouse, for consumption after February 2, 2025, the date on which the provisional measures were no longer in effect, until and through the day preceding the date of publication of the ITC's final injury determination in the Federal Register. Suspension of liquidation and the collection of cash deposits will resume on the date of publication of the ITC's final determination in the Federal Register.

Establishment of the Annual Inquiry Service Lists

On September 20, 2021, Commerce published the Final Rule in the Federal Register.¹¹ On September 27, 2021, Commerce also published the Procedural Guidance in the Federal Register.¹² The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

¹¹ See Regulations to Improve Administration and Enforcement of Antidumping and Countervailing Duty Laws, 86 FR 52300 (September 20, 2021) (Final Rule).

¹² See Scope Ruling Application; Annual Inquiry Service List; and Informational Sessions, 86 FR 53205 (September 27, 2021) (Procedural Guidance).

In accordance with the Procedural Guidance, for an order published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹³

¹³ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁴ the new annual inquiry service list will be in place until the following year, when the Opportunity Notice for the anniversary month of the order is published.

¹⁴ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ¹⁵ Accordingly, as stated above, the petitioner and the Government of China (GOC) should submit their initial entries of appearance after publication of this notice in order to appear in the first annual inquiry service lists for this order. Pursuant to 19 CFR 351.225(n)(3), the petitioner and the GOC will not need to resubmit their entries of appearance each year to continue to be included on the annual inquiry service list. However, the petitioner and the GOC are responsible for making amendments to their entries of appearance during the annual update to the annual inquiry service list in accordance with the procedures described above.

¹⁵ See Final Rule, 86 FR at 52335.

Notification to Interested Parties

This notice constitutes the AD and CVD orders with respect to alkyl phosphate esters from China pursuant to sections 736(a) and 706(a) of the Act. Interested parties can find a list of duty orders currently in effect at https://www.trade.gov/data-visualization/adcvd-proceedings.

These orders are published in accordance with sections 736(a) and 706(a) of the Act, and 19 CFR 351.211(b).

Dated: June 5, 2025.
Christopher Abbott,
Deputy Assistant Secretary for Policy and Negotiations, performing the non-exclusive functions and duties of the Assistant Secretary for Enforcement and Compliance.

Appendix

Scope of the Orders

The products covered by these orders are alkyl phosphate esters, which are halogenated and non-halogenated phosphorus-based esters with a phosphorus content of at least 6.5 percent (per weight) and a viscosity between 1 and 2000 mPa·s (at 20-25 °C).

Merchandise subject to these orders primarily includes tris (2-chloroisopropyl) phosphate (TCPP), tris (1,3-dichloroisopropyl) phosphate (TDCP), and triethyl phosphate (TEP)).

TCPP is also known as tris (1-chloro-2- propyl) phosphate, tris (1-chloropropan-2-yl) phosphate, tris (monochloroisopropyl) phosphate (TMCP), and tris (2-chloroisopropyl) phosphate (TCIP). TCPP has the chemical formula C9H18Cl3O4P and the Chemical Abstracts Service (CAS) Nos. 1244733-77-4 and 13674-84-5. It may also be identified as CAS No. 6145-73-9.

TDCP is also known as tris (1,3-dichloroisopropyl) phosphate, tris (1,3-dichloro-2-propyl) phosphate, chlorinated tris, tris {2- chloro-1-(chloromethyl ethyl)} phosphate, TDCPP, and TDCIPP. TDCP has the chemical formula C9H15Cl6O4P and the CAS No. 13674-87-8.

TEP is also known as phosphoric acid triethyl ester, phosphoric ester, flame retardant TEP, tris(ethyl) phosphate, triethoxyphosphine oxide, and ethyl phosphate (neutral). TEP has the chemical formula (C2H5O)3PO and the CAS No. 78-40-0.

Imported alkyl phosphate esters are not excluded from the scope of these orders even if the imported alkyl phosphate ester consists of a single isomer or combination of isomers in proportions different from the isomers ordinarily provided in the market.

Also included in these orders are blends including one or more alkyl phosphate esters, with or without other substances, where the alkyl phosphate esters account for 20 percent or more of the blend by weight.

Alkyl phosphate esters are classified under subheading 2919.90.5050, Harmonized Tariff Schedule of the United States (HTSUS). Imports may also be classified under subheadings 2919.90.5010 and 3824.99.5000, HTSUS. The HTSUS subheadings and CAS registry numbers are provided for convenience and customs purposes. The written description of the scope is dispositive.

[FR Doc. 2025-10630 Filed 6-10-25; 8:45 am]

BILLING CODE 3510-DS-P